SURFACE TRANSPORTATION BOARD

[Docket No. FD 36846]

Santa Maria Valley Railroad, LLC—Acquisition and Change of Operator Exemption—Railroad Lines of Coast Belle Rail, LLC, and Union Pacific Railroad Company, in Santa Barbara County, Cal.

Santa Maria Valley Railroad, LLC (SMVR), a noncarrier, has filed a verified notice of exemption under 49 CFR 1150.31 to (1) acquire from Coast Belle Rail, LLC (CBRL), a rail line extending between milepost 3.3 near Guadalupe (Betteravia Junction), Cal., and milepost 9.3 at Santa Maria, Cal., along with the connecting Airbase Branch extending between the wye at milepost 8.5/0.0 at Santa Maria and milepost 3.0 at Santa Maria (the CBRL Line); (2) acquire by assignment from Coast Belle Rail Corp. d/b/a Santa Maria Valley Railroad Company (Coast Belle) its leasehold interest in a rail line owned by Union Pacific Railroad Company (UP), extending between milepost 0.0 at Guadalupe, Cal., and milepost 3.3, along with the Betteravia Branch, extending between milepost 3.3 and milepost 4.8 at Betteravia, Cal. (the UP Line); and (3) replace Coast Belle as the common carrier service provider on the CBRL Line and UP Line (collectively, the Lines),¹ thereby terminating Coast Belle's current common carrier status with respect to the Lines. The verified notice states that SMVR, CBRL, and Coast Belle are completing agreement terms for the transaction.

¹ According to the verified notice, Coast Belle currently operates over the CBRL Line pursuant to an operating agreement with CBRL and over the UP Line pursuant to a lease agreement with UP. See Coast Belle Rail Corp.—Lease & Operation Exemption—Line of Coast Belle Rail, LLC, FD 34927 (STB served Oct. 17, 2006). SMVR states that the mileposts and total route mileages in the current verified notice differ in certain respects from those in the 2006 proceeding, and that the mileposts and route mileage in the current verified notice more accurately describe the scope of rail operations than was offered in 2006.

This transaction is related to a concurrently filed verified notice of exemption in OmniTRAX Holdings Combined, Inc.—Continuance in Control Exemption—Santa Maria Valley Railroad, Docket No. FD 36845, in which OmniTRAX Holdings Combined, Inc., and HGS Railway Holdings, Inc., seek to continue in control of SMVR upon SMVR's becoming a Class III rail carrier.

SMVR certifies that it will not be contractually limited in its ability to interchange traffic with any third-party connecting carrier. SMVR further certifies that its projected annual revenues will not exceed $5 million and will not result in SMVR's becoming a Class I or Class II rail carrier. Under 49 CFR 1150.32(b), a change in operator requires that notice be given to shippers. SMVR states that it has provided notice to all customers on the Lines.

The earliest this transaction may be consummated is April 12, 2025. SMVR states that it expects to consummate its acquisition of, and commence common carrier operations over, the Lines on or after that date.

If the verified notice contains false or misleading information, the exemption is void ab initio. Petitions to revoke the exemption under 49 U.S.C. 10502(d) may be filed at any time. The filing of a petition to revoke will not automatically stay the effectiveness of the exemption. Petitions for stay must be filed no later than April 4, 2025 (at least seven days before the exemption becomes effective).

All pleadings, referring to Docket No. FD 36846, must be filed with the Surface Transportation Board either via e-filing on the Board's website or in writing addressed to 395 E Street SW, Washington, DC 20423-0001. In addition, a copy of each pleading must be served on SMVR's representative, Robert A. Wimbish, Fletcher & Sippel LLC, 29 North Wacker Drive, Suite 800, Chicago, IL 60606-3208.

According to SMVR, this action is categorically excluded from environmental review under 49 CFR 1105.6(c) and from historic preservation reporting requirements under 49 CFR 1105.8(b).

Board decisions and notices are available at www.stb.gov.

Decided: March 25, 2025.
By the Board, Scott M. Zimmerman, Acting Director, Office of Proceedings.
Tammy Lowery,
Clearance Clerk.

[FR Doc. 2025-05402 Filed 3-27-25; 8:45 am]

BILLING CODE 4915-01-P